DEPARTMENT OF COMMERCE

National Oceanic and Atmospheric Administration

50 CFR Part 679

RIN 0648-AX71

Fisheries of the United States Exclusive Economic Zone Off Alaska; Fisheries of the Arctic Management Area; Bering Sea Subarea

AGENCY: National Marine Fisheries Service (NMFS), National Oceanic and Atmospheric Administration (NOAA), Commerce.

ACTION: Availability of a fishery management plan and fishery management plan amendment; request for comments.

SUMMARY: The North Pacific Fishery Management Council has submitted the Fishery Management Plan for Fish Resources of the Arctic Management Area (Arctic FMP) and Amendment 29 to the FMP for Bering Sea/Aleutian Islands King and Tanner Crabs (Crab FMP). The Arctic FMP and Amendment 29 to the Crab FMP, if approved, would establish sustainable management of commercial fishing in the Arctic Management Area and limit the management area of crab species under the Crab FMP to waters of the U.S. Exclusive Economic Zone (EEZ) south of Bering Strait. This action is necessary to establish a management framework for commercial fishing of nearly all fish species occurring in the Arctic Management Area before the potential onset of unregulated commercial fishing in the Arctic Management Area. This action is intended to promote the goals and objectives of the Magnuson-Stevens Fishery Conservation and Management Act, the FMPs, and other applicable laws. Comments from the public are encouraged.

DATES: Written comments on the Arctic FMP and Crab FMP amendment must be received by 1700 hours, A.D.T. on July 27, 2009.

ADDRESSES: Send comments to Sue Salveson, Assistant Regional Administrator, Sustainable Fisheries Division, Alaska Region, NMFS, Attn: Ellen Sebastian. You may submit comments, identified for this action by 0648-AX71 (NOA), by any one of the following methods:

• Electronic Submissions: Submit all electronic public comments via the Federal eRulemaking Portal http://www.regulations.gov.

• Mail: P.O. Box 21668, Juneau, AK 99802.

• Hand delivery to the Federal Building: 709 West 9th Street, Room 420A, Juneau, AK.

• Fax: 907-586-7557.

All comments received are a part of the public record and will generally be posted to http://www.regulations.gov without change. All Personal Identifying Information (e.g., name, address) voluntarily submitted by the commenter may be publicly accessible. Do not submit Confidential Business Information or otherwise sensitive or protected information.

NMFS will accept anonymous comments (enter N/A in the required fields, if you wish to remain anonymous). Attachments to electronic comments will be accepted in Microsoft Word, Excel, WordPerfect, or Adobe portable document file (pdf) formats only.

Copies of the Arctic FMP, Amendment 29 to the Crab FMP, maps of the action area and essential fish habitat, and the Environmental Assessment/Regulatory Impact Review/Initial Regulatory Flexibility Analysis (EA/RIR/IRFA) for this action may be obtained from the Alaska Region address above or from the Alaska Region website at http://www.alaskafisheries.noaa.gov.

FOR FURTHER INFORMATION CONTACT: Melanie Brown, 907-586-7228.

SUPPLEMENTARY INFORMATION: The Magnuson-Stevens Fishery Conservation and Management Act (Magnuson-Stevens Act) requires that the North Pacific Fishery Management Council (Council) submit any FMP or FMP amendment it prepares to NMFS for review and approval, disapproval, or partial approval by the Secretary of Commerce (Secretary). The Magnuson-Stevens Act also requires that NMFS, upon receiving an FMP or FMP amendment, immediately publish a notice in the Federal Register that the FMP or FMP amendment is available for public review and comment.

If approved by the Secretary, the Arctic FMP and Amendment 29 to the Crab FMP would establish sustainable management of commercial fishing in the Arctic Management Area and remove management authority within the Arctic Management Area from the Crab FMP. The Arctic FMP would establish a management framework to sustainably manage future commercial fishing in the Arctic Management Area and would initially prohibit commercial fishing until new information regarding Arctic fish resources allows for authorization of a sustainable commercial fishery in the Arctic Management Area. Amendment 29 to the Crab FMP would ensure consistent management of all crab species in the Arctic Management Area under one FMP.

In February 2009, the Council recommended the adoption of the Arctic FMP to implement a management framework that will protect the fish resources of the Arctic Management Area against the potential onset of unregulated commercial fishing by initially prohibiting commercial fishing until sufficient information is available to enable sustainable management of such fishing consistent with the Magnuson-Stevens Act. Global climate change is reducing the extent of sea ice in the Arctic Ocean, providing greater access to Arctic marine resources and increased human activity in this sensitive marine environment of the U.S. EEZ.

Under the Magnuson-Stevens Act (section 306(a)(3)), the State of Alaska may regulate commercial fishing in the adjacent EEZ waters if no FMP is in place. No FMP is in place for the Arctic Management Area. However, the state authority for management in the EEZ pertains only to vessels registered under the law of the State of Alaska. Thus, absent an FMP it is possible that unregistered vessels could commercially fish in the Arctic Management Area without any regulatory oversight or management. In light of the potential adverse effects on the Arctic marine environment from unregulated commercial fishing, the Council chose to prevent this from occurring in the future. The proposed Arctic FMP would eliminate the potential for unregulated commercial fishing in the Arctic Management Area. The proposed Arctic FMP represents a precautionary, ecosystem-based approach to fisheries management in the Arctic Management Area.

Features of the Arctic FMP

The proposed Arctic FMP contains all required provisions and appropriate discretionary provisions for an FMP contained in sections 303(a), 303(b), and 313 of the Magnuson-Stevens Act. The conservation and management provisions in the Arctic FMP were developed to be consistent with the National Standard guidelines. The following is a summary of the main provisions of the proposed Arctic FMP.

With the exception of Pacific halibut and Pacific salmon, the Arctic FMP would apply to commercial harvests of all fish resources in the waters of the Arctic Management Area (See Figure 1). The geographic extent of the Arctic Management Area would be all marine waters in the U.S. EEZ of the Chukchi and Beaufort Seas, from 3 nautical miles off the coast of Alaska or its baseline to 200 nautical miles offshore, north of Bering Strait (from Cape Prince of Wales to Cape Dezhneva) and westward to the 1990 U.S./Russia maritime boundary line and eastward to the U.S./Canada maritime boundary.

This action would not affect non-commercial fishing in the Arctic Management Area, nor commercial harvest of certain species that are managed pursuant to other legal authorities. This action would have no effect on subsistence harvest of marine resources in the Arctic Management Area. It would also have no effect on the commercial harvests of Pacific salmon or Pacific halibut. The commercial harvest of Pacific salmon in the Arctic Management Area is managed under the FMP for Salmon Fisheries in the EEZ off the Coast of Alaska, which prohibits commercial salmon fishing in the Arctic Management Area. Pacific halibut commercial fishing is managed by the International Pacific Halibut Commission, which does not permit harvest of Pacific halibut in the Arctic Management Area.

The proposed Arctic FMP establishes two categories of species, target species and ecosystem component species. Target species are those that are most likely to be targeted in a commercial fishery based on potential markets and available biomass in the Arctic Management Area. Arctic cod (Boreogadus saida), saffron cod (Eleginus gracilis), and snow crab (Chionoecetes opilio) are target species in the proposed Arctic FMP. The remainder of fish, as defined by Section 3 of the Magnuson-Stevens Act, occurring in the Arctic Management Area are classified as ecosystem component species.

The proposed Arctic FMP provides the maximum sustainable yield (MSY) and optimum yield (OY) for commercial fishing for each of the target species. MSY is specified for each target species using the MSY control rule described in the proposed Arctic FMP. The OY for each target species is determined by reductions from MSY based on uncertainty, economic considerations, and ecosystem considerations. The MSYs for Arctic cod, saffron cod, and snow crab would be reduced by 100 percent based on economic costs of fishing. Uncertainty would reduce the MSY for each target species by an amount ranging from 36 to 61 percent. MSYs for Arctic cod and saffron cod also would be reduced based on ecosystem considerations. Arctic cod is a keystone species in the Arctic marine environment, with many higher trophic level predators (i.e., certain marine mammals and seabirds) heavily dependent on Arctic cod as a principal prey species. The harvest of saffron cod likely would result in very high levels of Arctic cod bycatch (two tons of Arctic cod for each ton of saffron cod); therefore, the harvest of saffron cod also likely would result in impacts on Arctic cod and those species that depend on Arctic cod as prey. Because of the importance of Arctic cod to the Arctic food web, the lack of knowledge of the Arctic cod biomass needed to support both commercial fishing and Arctic predators, and the potential high levels of bycatch of Arctic cod in a saffron cod fishery, the MSYs for Arctic and saffron cods are reduced 100 percent based on ecosystem concerns.

Based on these reductions of the MSYs for the target species, the OY for commercial fishing in the Arctic Management Area for each target species is zero. The proposed Arctic FMP specifies the OY for each target species as the lowest amount of catch sufficient to allow for bycatch of Arctic cod, saffron cod, and snow crab in subsistence fisheries for other species. The Arctic FMP would thus prohibit commercial fishing on target species. With an OY of zero for each target species, no quantity of target species is available for commercial harvest.

The commercial harvest of ecosystem component species also would be prohibited to prevent the adverse effects on the Arctic marine ecosystem, including the target species, that may occur from unregulated commercial fishing on these species. Consistent with the Council's stated management policy and objectives, the proposed Arctic FMP includes non-target species in the ecosystem component category to ensure that the Arctic marine ecosystem is adequately protected and out of concern that unregulated commercial fishing for these species could detrimentally affect the target fishery. The inclusion of all non-target species in the Arctic Management Area in the ecosystem component category is consistent with the Magnuson-Stevens Act which: recognizes the increased importance of habitat conservation; calls for development of conservation and management measures to avoid irreversible or long-term adverse effects to the marine environment and to minimize bycatch to the extent practicable; permits inclusion in an FMP of management measures to conserve non-target species and habitats, considering the variety of ecological factors affecting fishery populations; and requires consideration of ecological factors and protection of the marine ecosystem in setting OY for stocks in the fishery. The National Standard 1 guidelines (50 CFR 600.310(d)(5)(i)) further encourage an ecosystem-based approach to management of fisheries, providing the Council and NMFS with broad discretion to determine whether stocks should be classified and included in an FMP as ecosystem component species for a series of reasons, including specifying OY and developing conservation and management measures for the associated fishery to address other ecosystem issues and to protect their associated role in the ecosystem with which the fishery interacts. Due to the lack of commercial fishing in the Arctic, these species are non-target species and are not generally retained for sale or for personal use. Moreover, these species are not likely to be overfished or be subject to overfishing in the absence of commercial fishing or conservation and management measures.

The Council's decision to create an ecosystem component category that includes all fish species in the Arctic Management Area, except the potential target species, and to prohibit commercial fishing for such species other than salmon and halibut, is based on ecosystem considerations and is intended to conserve target and non-target species and their habitats. The stated management objectives of the Arctic FMP provide a benchmark for NMFS' evaluation of the Council's proposed management measures. These objectives include a “Biological Conservation Objective” that seeks to ensure the long-term viability of fish populations by, among other things, preventing unregulated fishing and “incorporating ecosystem-based considerations into fishery management decisions, as appropriate . . . .” NMFS believes that the prohibition on commercial fishing for ecosystem component species reflects such appropriate ecosystem-based considerations and does not constitute required conservation and management for purposes of including such species in the fishery.

The OY for each of the three potential target fisheries is de minimis, and sufficient only to support subsistence fishing. NMFS shares the Council's concern that if the target species are caught as bycatch during unregulated commercial fishing for other species, removal of those target species could surpass OY. Similarly, NMFS shares the Council's concern that unregulated commercial fishing for ecosystem component species may affect the Arctic marine ecosystem in ways that are detrimental to the potential target fishery as well as non-target species and their habitats. For example, large-scale removal of biomass of important prey species for one or more target species, or removal of species that are otherwise ecologically connected to one or more target species, could adversely affect the target fishery populations. At present, the scientific understanding of the interdependence and trophic relationships between particular species in the Arctic marine ecosystem is rudimentary, relative to other marine ecosystems, as is the knowledge of particular habitats in the region that may be important to the continued health of the ecosystem and its various species. In particular, NMFS is concerned about the potential adverse effects of unregulated commercial fishing for non-target species on Arctic cod, which is found throughout the Arctic Management Area and is a keystone species that provides a crucial trophic link between the sea ice food web and marine mammals and birds.

These limitations on NMFS' understanding of ecological processes in the Arctic are compounded by the ongoing climatic changes in the region and physical changes in the marine environment. Global climate change is anticipated to continue altering the Arctic environment in fundamental ways, and before long may lead to a seasonally ice-free Arctic Ocean. As a result, there is great uncertainty regarding the ways in which current ecological relationships may change, irrespective of fishing pressure. Consistent with the Council's ecosystem-based management policy, NMFS believes it is appropriate to adopt management measures that will maximize the resilience of the target species and afford the greatest protection to the integrity of the Arctic ecosystem in the face of a changing climate. The prohibition on commercial fishing for ecosystem component species represents such a management measure.

Although there is uncertainty as to whether commercial fishing for ecosystem component species would diminish target fishery populations to an unacceptable degree, either due to bycatch of target species or impacts on the ecosystem, NMFS has determined that the Council appropriately adopted a precautionary approach that proposes prohibiting commercial fishing for any species of Arctic fish in the Arctic Management Area. Given the limited knowledge of ecological relationships and considerable uncertainty regarding the future, this will ensure that fishing does not interfere with important ecological relationships in the Arctic marine environment and thereby avoids the risk of harm to the potential target species, the broader ecosystem, and the habitat of fish species that may otherwise result from unregulated commercial fishing for ecosystem component species. Prohibiting commercial fishing on ecosystem component species is therefore an ecosystem-based, precautionary approach to fish resources management in the Arctic Management Area. NMFS will from time-to-time review the status of ecosystem component species based on the best available scientific information to determine whether or not such species should be classified for active conservation and management as species or stocks in the fishery.

The proposed Arctic FMP includes a process and criteria for evaluating a future commercial fishery. The evaluation process includes the Council's review of an analysis of the biological information on the potential target species and potential impacts of commercial fishing on the Arctic marine environment and on communities. An FMP amendment would be required to authorize a commercial fishery in the Arctic Management Area and to implement the specific conservation and management measures for the fishery.

If a commercial fishery is authorized in the Arctic Management Area, the proposed Arctic FMP provides the general conservation and management measures to ensure sustainable fishing and to prevent overfishing of any target species. Overfishing levels (OFL) and acceptable biological catch levels (ABC) would be established, according to tier systems, based on the quantity of information available. The process for specifying OFLs, ABCs, and total allowable catch amounts (TACs) includes the development of a Stock Assessment and Fishery Evaluation report for the Council's consideration in recommending OFLs, ABCs, and TACs to the Secretary.

The National Standard 1 guidelines (74 FR 3178, January 16, 2009) require accountability measures and mechanisms to prevent overfishing. This requirement would be satisfied by the catch and retention restrictions implemented with the prohibition of commercial fishing initially imposed by the proposed Arctic FMP. If a commercial fishery is authorized in the future, the FMP would be amended to incorporate specific accountability measures and mechanisms to prevent overfishing.

The proposed Arctic FMP includes the process and criteria for issuing exempted fishing permits (EFP). EFPs provide exemptions to fishing regulations under 50 CFR part 679 to allow commercial fishing in a manner not otherwise authorized. These permits are granted for the purpose of allowing studies that provide information useful to the management of fisheries and are effective for a limited time. More information regarding EFPs is available from the NMFS Alaska Region website at http://www.alaskafisheries.noaa.gov/ram/efp.htm.

Essential fish habitat (EFH) is described for each target species in the proposed Arctic FMP. Once EFH is established, NMFS must be consulted for any federal action that may adversely impact EFH (Magnuson-Stevens Act section 305(b)(2)). The proposed EFH description for Arctic cod includes the entire Arctic Management Area. Proposed EFH locations for snow crab and saffron cod are primarily in the Chukchi Sea. Descriptions of potential non-fishing adverse impacts on EFH and mitigation are appended to the proposed Arctic FMP.

To assist in the ecosystem approach to fisheries management, the proposed Arctic FMP includes habitat descriptions for several ecosystem component species. The species selected for habitat descriptions represent forage species and potential future target species based on Bering Sea commercial fishing.

The proposed Arctic FMP also includes the latest information on the Arctic ecosystem and Chukchi and Beaufort Seas survey data. This information provides the basis for the MSY and OY specifications and informed the Council's decision to recommend adoption of the Arctic FMP.

Amendment 29 to the Crab FMP

Amendment 29 to the Crab FMP would move the northern boundary of the Crab FMP management area to Bering Strait. The Crab FMP northern boundary is currently located at Point Hope, north of Bering Strait and within the Arctic Management Area (See Figure 1). This change in the Crab FMP northern boundary would allow the management of all crab species in the Arctic Management Area to be under the Arctic FMP, and would ensure consistent application of the conservation and management measures in the Arctic FMP to crab throughout the Arctic Management Area. The Arctic FMP's conservation and management measures were designed to address the unique Arctic marine environment and the paucity of information available for sustainable fisheries management. Because the information available for Arctic crab and the marine environment of the Arctic Management Area differs from the Bering Sea, the Council recommended management of crab in the Arctic Management Area under the Arctic FMP.

Public Comments

NMFS is soliciting public comments on the proposed Arctic FMP and Crab FMP amendment through July 27, 2009. A proposed rule that would implement the Arctic FMP and Crab FMP amendment will be published in the Federal Register for public comment at a later date, following NMFS' evaluation pursuant to the Magnuson-Stevens Act. Public comments on the proposed rule must be received by the end of the comment period on the Arctic FMP and Crab FMP amendment in order to be considered in the approval/disapproval decision on the Arctic FMP and Crab FMP amendment. All comments received on the Arctic FMP and Crab FMP amendment by the end of the comment period, whether specifically directed to the FMP or amendment or to the proposed rule, will be considered in the approval/disapproval decision. Comments received after that date will not be considered in the approval/disapproval decision on the Arctic FMP or Crab FMP amendment. To be considered, comments must be received— not just postmarked or otherwise transmitted—by 1700 hours, A.D.T. on the last day of the comment period (See DATES and ADDRESSES).

Authority: 16 U.S.C. 1801 et seq.

Dated: May 20, 2009.
Margo Schulze-Haugen,
Acting Director, Office of Sustainable Fisheries, National Marine Fisheries Service.

[FR Doc. E9-12151 Filed 5-22-09; 8:45 am]

BILLING CODE 3510-22-S